DEPARTMENT OF AGRICULTURE

Agricultural Marketing Service

[Doc# AMS-TM-12-0004; TM-12-01]

Notice of Funds Availability (NOFA) Inviting Applications for the 2012 Farmers' Market Promotion Program (FMPP)

AGENCY: Agricultural Marketing Service, USDA.

ACTION: Notice.

SUMMARY: The Agricultural Marketing Service (AMS) announces the availability of approximately $10 million in competitive grant funds for fiscal year (FY) 2012 to increase domestic consumption of agricultural commodities by expanding direct producer-to-consumer market opportunities. Examples of direct producer-to-consumer market opportunities include new farmers markets, roadside stands, community-supported agriculture (CSA) programs, agri-tourism activities, and other direct producer-to-consumer infrastructures. AMS hereby requests proposals from eligible entities within the following categories: Agricultural cooperatives, producer networks, producer associations, local governments, nonprofit corporations, public benefit corporations, economic development corporations, regional farmers market authorities, and Tribal governments. Based on the available funding, AMS will award the most competitive applications that demonstrate measurable, outcome-based strategies that help increase farmers' or agricultural producers' revenue through direct producer to consumer marketing opportunities. The minimum award per grant is $5,000 and the maximum award per grant is $100,000. No matching funds are required.

DATES: Applications should be received and accepted,¹ via Grants.gov, not later than May 21, 2012. Applications received after the deadline will not be considered.

¹ Note that it may take Grants.gov up to 48 hours to send an email confirming that the application was received and validated by the Grants.gov system. The application must have been received by Grants.gov prior to the FMPP deadline.

ADDRESSES: The 2012 Farmers' Market Promotion Program (FMPP), Agricultural Marketing Service, USDA, Room 4509-South Building, 1400 Independence Avenue SW., Washington, DC, 20250-0269, phone (202) 720-0933.

AMS will only accept application packages submitted via http://www.Grants.gov. AMS will not accept application packages by mail, hand delivery, email, or fax. Except for the submission of multiple applications (for instance, an EBT and a non-EBT project), all forms, narrative, letters of support, and other required materials must be forwarded in one application package. AMS strongly recommends that each applicant visit the AMS Web site at http://www.ams.usda.gov/FMPP to review a copy of the 2012 FMPP Guidelines and application instructions prior to preparing the proposal narrative and application.

FOR FURTHER INFORMATION CONTACT: Ms. Carmen Humphrey, Branch Chief, Marketing Grants and Technical Services Branch, Marketing Services Division, Transportation and Marketing Programs, AMS, USDA, on (202) 720-0933, or via facsimile on (202) 690-4152. State that your request for information refers to Docket No. TM-12-01.

SUPPLEMENTARY INFORMATION: This solicitation is issued pursuant to Section 6 of the Farmer-to-Consumer Direct Marketing Act of 1976 (7 U.S.C. 3001-3006) as amended.² The amended act states that the purposes of the FMPP are “(A) to increase domestic consumption of agricultural commodities by improving and expanding, or assisting in the improvement and expansion of domestic farmers markets, roadside stands, community-supported agriculture programs, agri-tourism activities and other direct producer-to-consumer market opportunities; and (B) to develop, or aid in the development of new farmers markets, roadside stands, community-supported agriculture programs, agri-tourism activities, and other direct producer-to-consumer marketing opportunities.”

² Section 10605 of the Farm Security and Rural Investment Act of 2002 (Pub. L. 107-171) authorizing the establishment of the Farmers' Market Promotion Program (7 U.S.C. 3005) (FMPP) and as amended by section 10106 of the Food, Conservation and Energy Act of 2008 (Pub. L. 110-246).

Detailed program guidelines may be obtained at http://www.ams.usda.gov/FMPP or from the contact listed above. In accordance with the Secretary's Statement of Policy (36 FR 13804), it is found and determined upon good cause that it is impracticable, unnecessary, and contrary to the public interest to engage in further public participation under 5 U.S.C 553 because the applications for the FMPP need to be made available as soon as possible as the program season approaches.

Background

AMS will grant awards for projects that assist in developing, promoting, and expanding direct marketing of agricultural commodities from farmers to consumers. Eligible FMPP proposals should support marketing entities where agricultural farmers or vendors sell their own products directly to consumers, and the sales of these farm products represent the core business of the entity. Proprietary projects and projects that benefit one agricultural producer or individual will not be considered.

All eligible entities shall be entities owned, operated, and located within one or more of the 50 United States, the District of Columbia, or the U.S. territories.³

³ U.S. territories include: The Commonwealth of Puerto Rico, Guam, American Samoa, the U.S. Virgin Islands, and the Commonwealth of the Northern Mariana Islands.

Additionally, eligible entities must apply for FMPP funds on behalf of direct marketing operators that include two or more agricultural farmers/vendors that produce and sell their own products through a common distribution channel. Individual agricultural producers and sole proprietors, including farmers and farmers market vendors, roadside stand operators, community-supported agriculture participants, and other individual direct marketers are not eligible for FMPP funds.

FMPP grant funds that are requested must support the specific programs and objectives identified in the application. In addition, all applications submitted under FMPP must include measurable, outcome-based strategies that describe how the project will achieve the goals identified in the application. Budget items that do not directly support these objectives will not be funded.

In a coordinated effort to enhance healthy food access in urban and rural areas in the United States, AMS is giving funding priority to the development and expansion of direct producer-to-consumer marketing outlets that sell healthy foods in food deserts (areas with limited access to affordable and nutritious food, particularly areas composed of predominantly lower-income neighborhoods and communities) or low-income areas (where the percentage of the population living in poverty is at least 20 percent). Under FMPP, healthy foods include whole foods such as fruits, vegetables, whole grains, fat free or low-fat dairy, and lean meats that are perishable (fresh, refrigerated, or frozen) or canned as well as nutrient-dense foods and beverages encouraged by the 2010 Dietary Guidelines for Americans (see http://www.cnpp.usda.gov/DGAs2010-PolicyDocument.htm for more information). Direct producer-to-consumer marketing outlets will include, but not be limited to, farmers markets, CSAs, and road-side stands.

These projects will receive five additional points under FMPP if, in addition to meeting all the other established criteria for FMPP projects, they are located in one of the USDA-identified food desert census tracts or they are located in a low-income area (as reported in the most recently completed decennial census published by the U.S. Bureau of the Census). For additional information, see the 2012 FMPP Guidelines at http://www.ams.usda.gov/FMPP.

Not less than 10 percent of the total available funds will be used to support the use of new electronic benefits transfer (EBT) for Federal nutrition programs at farmers markets. To be considered within the 10 percent allotment of funds for EBT, the application narrative must clearly designate the applicant's intent to compete for FMPP funds as a new EBT project. FMPP funds shall be provided to successful proposals that demonstrate a plan to continue to provide EBT card access at one or more farmers markets following the completion of the grant.

When an applicant has multiple project goals, AMS requires that similar proposals be submitted in the application package. Due to the legislative mandate, the Agency differentiates projects as EBT-related or non EBT-related submissions. As such, all non-EBT projects must be submitted in one application and all new or existing EBT-related projects submitted in a second, distinctly separate application. For applicants submitting two or more applications, such applications must not contain the same or substantially the same narrative, logic model, or budget narrative. Each application must include distinctly separate information with an explanation of the goals and corresponding budget requests for each project submitted. Failure to comply with this requirement will result in the rejection of one or all of the applicant's proposals. Visit the 2012 FMPP Guidelines at http://www.ams.usda.gov/FMPP for instructions on submitting multiple applications.

While there is no limit to the number of applications that may be submitted, AMS will only award a maximum of one grant per organization in a funding year. Awardees from the FY 2011 grant program will not be considered for FMPP funding in FY 2012.

FMPP reserves the right to reject an application that is incomplete, does not follow the application requirements (i.e., is hand-written or in excess of the required page limitation), or propose activities that do not meet FMPP goals and objectives. Application packages without all of the required information will not be considered. FMPP's award decisions are final.

Paperwork Reduction Act

In accordance with the Paperwork Reduction Act of 1995, (44 U.S.C. Chapter 35), the FMPP information collection was previously approved by OMB and was assigned OMB control number 0581-0235.

AMS is committed to compliance with the Government Paperwork Elimination Act (GPEA) that requires Government agencies in general to provide the public the option of submitting information or transacting business electronically to the maximum extent possible.

How To Submit Proposals and Applications

Each applicant must follow the application preparation and submission instructions provided within the 2012 FMPP Guidelines located at http://www.ams.usda.gov/FMPP. Forms, proposals, letters of support, or any other application materials (electronic or hard-copy) that are emailed, faxed, mailed, or hand-delivered directly to AMS-FMPP, AMS, or USDA staff will not be accepted.

Applicants will have only one submission method for proposals and applications to AMS—electronically through Grants.gov at http://www.Grants.gov (enter 10.168 in grant search field). AMS strongly encourages the applicant to initiate the electronic submission process at least four weeks prior to the application deadline. In cases where an applicant error has been made in Grants.gov, an early submission will ensure the appropriate time for the applicant to resubmit the application. Grants.gov applicants are not required to submit any paper documents to FMPP.

Any documents accompanying the application (acceptable written proof of eligibility, proposal narrative, budget(s), and other supporting documents) must be uploaded after item #15 (descriptive title of applicant's project section) on the Grants.gov form SF-424. FMPP prefers that all accompanying documents and support materials be scanned as a single PDF file; however, other acceptable formats include MS-Word (for text documents) and MS-Excel (for spreadsheet documents). Failure to comply with this requirement will result in rejection of the application.

FMPP will not accept corrections or additions to Grants.gov submissions, including corrections submitted by phone, fax, mail, hand-delivery, or electronic mail to AMS. All documentation accompanying each application must be submitted in the Grants.gov application package. The only means of making a correction or addition to a Grants.gov application is by re-submitting a new application prior to the deadline.

AMS/FMPP staff will not extend the application deadline or accept any application after the deadline due to Grants.gov submission errors. Additionally, AMS/FMPP staff does not provide technical assistance with the Grants.gov related issues. Applicants experiencing problems in electronic submission of documentation must request assistance via the Grants.gov Web site, or telephone the Contact Center at 1-800-518-4726. Grants.gov will provide confirmation to the applicant that the application was submitted and received by AMS before the deadline. AMS will email the organization's authorized representative (as listed on the SF-424) an explanation if the application is being rejected.

FMPP is listed in the “Catalog of Federal Domestic Assistance” under number 10.168. Subject agencies, including FMPP, must adhere to Title VI of the Civil Rights Act of 1964, which bars discrimination in all federally assisted programs.

Dated: April 3, 2012.
Robert C. Keeney,
Acting Administrator.

[FR Doc. 2012-8395 Filed 4-5-12; 8:45 am]

BILLING CODE 3410-02-P